ENVIRONMENTAL PROTECTION AGENCY

[EPA-HQ-OW-2004-0015; FRL-9496-7]

Agency Information Collection Activities; Submission to OMB for Review and Approval; Comment Request; Clean Water Act State Revolving Fund Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 28, 2011.

ADDRESSES: Submit your comments, referencing Docket ID No. EPA-HQ-OW-2004-0015, to: (1) EPA online using http://www.regulations.gov (our preferred method), by email to: OW-Docket@epa.gov, or by mail to: EPA Docket Center, Environmental Protection Agency, Office of Water Docket, Mail Code: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Clifford Yee, Office of Wastewater Management, Mail Code: 4204M, Environmental Protection Agency, 1200 Pennsylvania Ave. NW., Washington, DC 20460; telephone number: (202) 564-0598; fax number: (202) 501-2403; email address: yee.clifford@epa.gov.

SUPPLEMENTARY INFORMATION: EPA has submitted the following ICR to OMB for review and approval according to the procedures prescribed in 5 CFR 1320.12. On July 11, 2011 (76 FR 40723), EPA sought comments on this ICR pursuant to 5 CFR 1320.8(d). EPA received no comments during the comment period. Any additional comments on this ICR should be submitted to EPA and OMB within 30 days of this notice.

EPA has established a public docket for this ICR under Docket ID No. EPA-HQ-OW-2004-0015, which is available for online viewing at http://www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is (202) 566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Clean Water Act State Revolving Fund Program (Renewal).

ICR Numbers: EPA ICR No. 1391.10, OMB Control No. 2040-0118.

ICR Status: This ICR is scheduled to expire on December 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Water Act (CWA), as amended by “The Water Quality Act of 1987” (U.S.C. 1381-1387 et seq.), created a Title VI which authorizes grants to States for the establishment of State Water Pollution Control Revolving Funds (SRF). The American Recovery and Reinvestment Act of 2009 (ARRA) established a matching State Water Pollution Control Revolving Fund Program with funds that had to be obligated in one year. The information collection activities will occur primarily at the program level through the State “Intended Use Plan” (IUP) and “Annual Report”. The information is needed annually to implement Section 606 of the CWA.

The 1987 Act declares that water pollution control revolving funds shall be administered by an instrumentality of the State subject to the requirements of the act. This means that each State has a general responsibility for administering its revolving fund and must take on certain specific responsibilities in carrying out its administrative duties. The information collection activities will occur primarily at the program level through the State IUP and Annual Report. The information is needed annually to implement section 606 of the Clean Water Act. The Act requires the information to ensure national accountability, adequate public comment and review, fiscal integrity and consistent management directed to achieve environmental benefits and results. The individual information collections are:

(1) Capitalization Grant Application and Agreement/State IUP: The State will prepare a Capitalization Grant application that includes a State IUP outlining in detail how it will use all of the funds available to the fund. The grant agreement contains or incorporates by reference the IUP, application materials, payment schedule, and required assurances. The bulk of the information is provided in the IUP, the legal agreement which commits the State and EPA to execute their responsibilities under the Act.

(2) Annual Report: The State must agree to complete and submit an Annual Report that indicates how the State has met the goals and objectives of the previous fiscal year as stated in the IUP and grant agreement. The report provides information on loan recipients, loan amounts, loan terms, project categories, environmental benefits and similar data on other forms of assistance. The report describes the extent to which the existing SRF financial operating policies, alone or in combination with other State financial assistance programs, will provide for the long term fiscal health of the Fund and carry out other provisions specified in the grant operating agreement.

(3) Annual Audit: Most States have agreed to conduct or have conducted a separate financial audit of the Capitalization Grant which will provide opinions on the financial statements and a report on the internal controls and compliance with program requirements. The remaining States will be covered by audits conducted under the requirements of the Single Audit Act and by EPA's Office of Inspector General.

(4) Application for SRF Financial Assistance: Local communities and other eligible entities have to prepare and submit applications for SRF assistance to their respective State Agency which manages the SRF program. The State reviews the completed loan application and verifies that the proposed projects will comply with applicable Federal and State requirements.

Burden Statement: The annual public reporting and recordkeeping burden for this collection of information is estimated to average 108 hours per response for the base program and 97.5 hours per response for the ARRA program. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and Local governments; local communities and tribes.

Estimated Number of Respondents: Base Program: 8,262; ARRA Program: 4,669.

Frequency of Response: Annually.

Estimated Total Annual Hour Burden: Base Program: 441,405; ARRA Program: 364,442.

Estimated Total Annual Cost: Base Program: $12,916,260. This includes an estimated burden cost of $6,389,280 State, and $6,526,980 Local. ARRA Program: $10,902,487. This includes an estimated burden cost of $6,805,440 State, and $4,097,047 Local.

Changes in the Estimates: There is an increase of 4,437 responses and decrease of 65,376 hours in the total estimated burden currently identified in the OMB Inventory of Approved ICR Burdens. This increase reflects EPA's acceptance of additional loan applicants for the State SRF loan program. The decrease in burden hours is the time needed to process and report on these loans on an annual basis.

Dated: November 21, 2011.
John Moses,
Director, Collection Strategies Division.

[FR Doc. 2011-30557 Filed 11-25-11; 8:45 am]

BILLING CODE 6560-50-P